DEPARTMENT OF COMMERCE

National Oceanic and Atmospheric Administration

RIN 0648-XG230

Fisheries of the Caribbean, Gulf of Mexico, and South Atlantic; Reef Fish Fishery of Puerto Rico and the U.S. Virgin Islands; Exempted Fishing Permit

AGENCY: National Marine Fisheries Service (NMFS), National Oceanic and Atmospheric Administration (NOAA), Commerce.

ACTION: Notice of receipt of an application for an exempted fishing permit; request for comments.

SUMMARY: NMFS announces the receipt of an application for an exempted fishing permit (EFP) from Puerto Rico's Department of Natural and Environmental Resources (DNER). If granted, the EFP would authorize persons aboard DNER research vessels and commercial fishing vessels contracted through DNER to collect selected reef fish species in waters of the U.S. Caribbean exclusive economic zone (EEZ) off Puerto Rico without complying with certain seasonal and gear closures, and size and bag limits. Reef fish would be harvested by hook-and-line and bottom longline gear and monitored by underwater camera gear. The operations would take place in the U.S. Caribbean EEZ off both the west and east coasts of Puerto Rico. All reef fish, including undersized and seasonally prohibited reef fish species, would be retained, except for goliath grouper, Nassau grouper, and all species of parrotfish. The purpose of the EFP is to determine spatial and temporal variations in stock abundance of Caribbean reef fish resources off Puerto Rico.

DATES: Comments must be received no later than June 26, 2018.

ADDRESSES: You may submit comments on the application by any of the following methods:

• Email: Sarah.Stephenson@noaa.gov. Include in the subject line of the email comment the following document identifier: “PR DNER_EFP 2018”.

• Mail: Sarah Stephenson, Southeast Regional Office, NMFS, 263 13th Avenue South, St. Petersburg, FL 33701.

The EFP application and related documents are available for review upon written request to any of the above addresses.

FOR FURTHER INFORMATION CONTACT: Sarah Stephenson, 727-824-5305; email: Sarah.Stephenson@noaa.gov.

SUPPLEMENTARY INFORMATION: The EFP is requested under the authority of the Magnuson-Stevens Fishery Conservation and Management Act (16 U.S.C. 1801 et seq.), and regulations at 50 CFR 600.745(b) concerning exempted fishing.

The proposed collection for scientific research involves activities that would otherwise be prohibited by regulations at 50 CFR part 622, as they pertain to Caribbean reef fish managed by the Caribbean Fishery Management Council. This action involves activities covered by regulations implementing the Fishery Management Plan for the Reef Fish Fishery of Puerto Rico and the U.S. Virgin Islands. If granted, the EFP would exempt this research activity from certain Federal regulations at § 622.435 (Seasonal and area closures), § 622.436 (Size limits), and § 622.437 (Bag limits). The EFP would be effective from the date of issuance through March 31, 2021.

The applicant requests authorization to collect reef fish species in the U.S. Caribbean EEZ off the east and west coasts of Puerto Rico. Specimens would be collected by persons aboard DNER research vessels and commercial fishing vessels contracted through the DNER, including DNER staff and commercial fishermen. Each vessel's home port is located in Puerto Rico. This permit would exempt project participants, including DNER staff, that do not have a valid commercial fishing license issued by Puerto Rico or the U.S. Virgin Islands from regulations limiting the number of reef fish collected per person per day, or per vessel per day (50 CFR 622.437(b)). The EFP would also exempt the applicant from certain seasonal and area closure regulations at 50 CFR 622.435 and size limits regulations at 50 CFR 622.436, as identified and described below.

The project would continue the collection of information on reef fish abundance and distribution in waters off eastern and western Puerto Rico as part of the ongoing Southeast Area Monitoring and Assessment Program—Caribbean Reef Fish Monitoring Project. Research in EEZ waters of the U.S. Caribbean would consist of harvesting reef fish at approximately 20 stations in the EEZ off the west coast of Puerto Rico, west of 67°00′00″ W long., and at approximately 10 stations in the EEZ off the east coast of Puerto Rico, from the Fajardo coast east to Culebra Island and Vieques Island. The stations will be randomly located at three depth strata: 0-10, 11-20, and 21-50 fathoms. Stations and sampling dates would be randomly selected each year over the duration of the EFP but may be subject to change according to weather and sampling logistics. All fishing activities would occur between the hours of 5:30 a.m. and 5:30 p.m., local time.

Sampling would be conducted by (1) bottom longline fishing, (2) hook-and-line fishing, and (3) underwater camera deployment to identify and quantify reef fish species. Sampling at each site would consist of one longline, three hook-and-line, and one camera deployment in tandem. Species expected to be caught and landed during the proposed activities include all federally managed reef fish in the U.S. Caribbean EEZ. All reef fish, including undersized and seasonally prohibited species, would be retained except for goliath grouper, Nassau grouper, and all species of parrotfish.

The EFP would allow the following amounts of seasonally prohibited reef fish to be harvested each year for the duration of the EFP: A total of 100 lb (45 kg) of any combination of red, black, tiger, yellowfin, and yellowedge groupers during the February 1 through April 30 seasonal closure (50 CFR 622.435(a)(1)(i)); a total of 240 lb (108 kg) of red hind grouper during the December 1 through the last day of February seasonal closure (50 CFR 622.435(a)(1)(ii)); a total of 100 lb (45 kg) of any combination of vermilion, black, silk, and blackfin snappers during the October 1 through December 31 seasonal closure (50 CFR 622.435(a)(1)(iii)); and a total of 600 lb (272 kg) of any combination of lane and mutton snappers during the April 1 through June 30 seasonal closure (50 CFR 622.435(a)(1)(iv)). In addition, the EFP would allow for the annual harvest of a total of 500 lb (227 kg) of yellowtail snapper, including harvest of individuals that are smaller than the Federal minimum size limit of 12 inches (30.5 cm), total length (50 CFR 622.436(a)), for the duration of the EFP. Each year, when the number of fish authorized by the permit is collected, activities allowed under the permit must stop. Collection may begin again the following year.

This permit would authorize fishing activities during the December 1 through February 28 seasonal closure in the Tourmaline and Abrir La Sierra Bank red hind spawning aggregation areas (50 CFR 622.435(a)(2)(ii)(B)(2) and (3)), located west of Puerto Rico. The permit would also exempt the applicant from the year-round prohibition against using bottom longlines in Tourmaline and Abrir La Sierra Bank areas (50 CFR 622.435(b)(2)).

At each station, one 300-foot (91.4-m) bottom longline would be deployed, with anchor and surface buoys attached at each end to allow for gear retrieval and identification. Circle hooks would be attached to the longline every 72 inches (183 cm), for a total of 50 hooks, and the gear would soak for 30 minutes, after which it would be retrieved and any reef fish would be collected, except for parrotfish and Nassau and goliath groupers, which would be immediately returned to the water. The bottom longline would be set to minimize any impacts to bottom habitat by avoiding coral reefs and by fastening small buoys at intervals between hooks to ensure the line remains suspended above the bottom to avoid entanglement. For each bottom longline set, the following data would be recorded: Date; time of first and last hook deployment and recovery; station code and latitude and longitude; fishing time to the nearest minute; weather conditions; depth; total number of hooked fish per vessel; number, weight, length, reproductive condition, and species level identification of fish per hook; and substrate and/or habitat type. Visual inspection of reef fish gonads would occur when the samples are processed and they would then be preserved for subsequent histological analysis.

The hook-and-line sampling would take place for 30 minutes at the same randomly-selected, stratified stations as the bottom longline, while anchored. At each station, hook-and-line gear would be fished using three lines, with each line having two circular hooks baited with squid. For each fishing trip, fishers will randomly space their hooks on the line and will retain all reef fish collected, except for parrotfish and Nassau and goliath groupers, which would be immediately returned to the water. For each hook-and-line set, the following data would be recorded: Date; time of EFP vessel trips (i.e., time of departure and return to dock); station location (latitude and longitude); fishing time to the nearest 10 minutes; weather conditions; depth; total number of hooked fish per vessel; number, weight, length, reproductive condition, and identification of reef fish per hook-and-line; and stratified habitat type or substrate type. Each fish will be identified by hook-and-line position and by fisher. If the habitat or substrate type is unknown, it will be characterized whenever possible using drop cameras.

Also at each station, a camera array would be deployed near the bottom longline for 30 minutes. The use of high-resolution digital video allows for accurate and precise reef fish species identification, counts, and size measurements.

NMFS finds this application warrants further consideration based on a preliminary review. Possible conditions the agency may impose on this permit, if it is indeed granted, include but are not limited to, a prohibition on conducting research within marine protected areas, marine sanctuaries, or special management zones, without additional authorization, and requiring compliance with best practices in the event of interactions with any protected species. NMFS may also require DNER complete and submit periodic catch report forms summarizing the amount of reef fish species harvested during the seasonal closures and within the exempted closed areas, as well as during the period of effectiveness of any issued EFP. Additionally, NMFS would require any sea turtles taken incidentally during the course of fishing or scientific research activities to be handled with due care to prevent injury to live specimens, observed for activity, and returned to the water.

A final decision on issuance of the EFP will depend on NMFS' review of public comments received on the application, consultations with the affected state(s), the Council, and the U.S. Coast Guard, and a determination that it is consistent with all applicable laws.

Authority: 16 U.S.C. 1801 et seq.

Dated: June 5, 2018.
Jennifer M. Wallace,
Acting Director, Office of Sustainable Fisheries, National Marine Fisheries Service.

[FR Doc. 2018-12420 Filed 6-8-18; 8:45 am]

BILLING CODE 3510-22-P